DEPARTMENT OF HEALTH AND HUMAN SERVICE

National Institutes of Health

National Institute of Neurological Disorders and Stroke; Amended Notice of Meeting

Notice is hereby given of a change in the meeting of the Neurological Sciences and Disorders B, October 19, 2000, 8 am to October 20, 2000, 6 pm, Hotel Washington, 15th St. & Pennsylvania Ave, NW., Washington, DC 20005 which was published in the Federal Register on August 11, 2000, 65 FR 49252.

The meeting will be held on October 19, 2000, 8 am to 6 pm. The meeting is closed to the public.

Dated: September 22, 2000.
LaVerne Y. Stringfield,
Director, Office of Federal Advisory Committee Policy.

[FR Doc. 00-25165 Filed 9-29-00; 8:45 am]

BILLING CODE 4140-01-M